DEPARTMENT OF TRANSPORTATION

Federal Aviation Administration

Intent To Prepare a Supplemental Draft Environmental Impact Statement; Ft. Lauderdale-Hollywood International Airport; Ft. Lauderdale, FL

AGENCY: Federal Aviation Administration, DOT.

ACTION: Notice of intent.

SUMMARY: The Federal Aviation Administration (FAA) is issuing this notice to advertise to the public that a Supplemental Draft Environmental Impact Statement (Supplemental DEIS) will be prepared and considered for the proposed extension of Runway 9R-27L to 9,000 feet and widening to 150 feet at Ft. Lauderdale-Hollywood International Airport.

FOR FURTHER INFORMATION CONTACT: Ms. Virginia Lane, Federal Aviation Administration (FAA), Orlando Airports District Office, 5950 Hazeltine National Drive, Suite 400, Orlando, FL 32822-5024, 407/812-6331, extension 29.

SUPPLEMENTARY INFORMATION: The FAA, in cooperation with Broward County, Florida, prepared and issued in February 2001, a Draft Environmental Impact Statement (DEIS) for a proposed project to lengthen and widen Runway 9R-27L at the Ft. Lauderdale-Hollywood International Airport (FLL) to 9,000 feet × 150 feet for air carrier aircraft use. The existing runway (5,276 feet × 100 feet) accommodates general aviation and commuter aircraft, but the Airport Master Plan (AMP), accepted on April 19, 1995, indicated that significant future airfield congestion and aircraft delay could be anticipated without some modification to the existing airfield facilities. The extension of the existing runway is planned as a precision instrument runway (PIR) with a CAT I approach to both Runway 27L and Runway 9R. The runway will have approach slopes of 50:1 to runway 27L and 50:1 to Runway 9R with a primary surface width of 1,000 feet.

A public hearing on the DEIS was held on March 21, 2001.

The FAA's decision to prepare a Supplemental DEIS is based on recent increases in airport operations and updated FAA forecasts for FLL. Revised forecasts used for the Supplemental DEIS will be FAA's 2001 Terminal Area Forecast for FLL. The revised forecasts are higher than the DEIS forecasts, and consequently the analysis in some of the environmental impact categories will change, specifically noise, environmental justice, and air quality. Revised analysis in the Supplemental DEIS will be based on a baseline year of 2000, the first year of operations with the proposed project of 2008, and an out year of 2015.

Because of the anticipated changes in the DEIS analysis, the FAA plans to circulate the Supplemental DEIS for review and comment by the various governmental agencies and public, and hold a second public hearing to disclose the changes. The FAA anticipates preparing and distributing the Supplemental DEIS and holding a second public hearing in early 2002.

The Supplemental DEIS will be a stand-alone document that will not require the use of the DEIS for interpretation or reference. The Supplemental DEIS will be prefaced with a summary section discussing principal changes from the DEIS. Public and agency comments on the DEIS will be addressed through changes in the Supplemental DEIS and there will not be any formal FAA responses to individual or grouped comments in the Supplemental DEIS. The Final EIS, however, will include comments and FAA responses to both the DEIS and Supplemental DEIS.

The DEIS included detailed evaluation of the No Action Alternative, Alternative A—Build New North Runways Elevated, Alternative B—Build New North Runways At-Grade, and the Proposed Project—Extension of Runway 9R-27L. The alternatives selected for detailed evaluation in the DEIS will not change in the Supplemental DEIS.

Questions may be directed to the individual named above under the heading FOR FURTHER INFORMATION CONTACT.

Issued in Orlando, Florida, October 29, 2001.
W. Dean Stringer,
Manager, Orlando Airports Districts Office.

[FR Doc. 01-27994 Filed 11-6-01; 8:45 am]

BILLING CODE 4910-13-M